DEPARTMENT OF TRANSPORTATION

Federal Aviation Administration

14 CFR Part 39

[Docket No. 2000-NM-366-AD; Amendment 39-12338; AD 2001-15-04]

RIN 2120-AA64

Airworthiness Directives; Dornier Model 328-100 Series Airplanes

AGENCY: Federal Aviation Administration, DOT.

ACTION: Final rule.

SUMMARY: This amendment supersedes an existing airworthiness directive (AD), applicable to all Dornier Model 328-100 series airplanes, that currently requires repetitive inspections of the left and right roll spoiler actuators to check for signs of leakage and deformation of the housing, repetitive inspections of the gap between the left roll spoiler actuator housing cap and the actuator housing, repetitive torque checks of the left roll spoiler actuator housing cap attachment screws, and corrective action, if necessary. This amendment requires replacement of the double shuttle valves in the roll spoiler actuators with new improved valves, which constitutes terminating action for the requirements of this AD. This amendment is prompted by issuance of mandatory continuing airworthiness information by a foreign civil airworthiness authority. The actions specified by this AD are intended to prevent oil leakage from the roll spoiler actuators, which could result in incorrect roll spoiler operation and reduced controllability of the airplane.

DATES: Effective August 29, 2001.

The incorporation by reference of Dornier Service Bulletin SB-328-27-310, dated June 10, 2000, as listed in the regulations, is approved by the Director of the Federal Register as of August 29, 2001.

The incorporation by reference of Dornier Alert Service Bulletin ASB-328-27-025, Revision 1, dated September 22, 1999, as listed in the regulations, was previously approved by the Director of the Federal Register as of December 7, 1999 (64 FR 59117, November 2, 1999).

ADDRESSES: The service information referenced in this AD may be obtained from Fairchild Dornier, Dornier Luftfahrt GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) by superseding AD 99-22-15, amendment 39-11393 (64 FR 59117, November 2, 1999), which is applicable to all Dornier Model 328-100 series airplanes, was published in the Federal Register on May 4, 2001 (66 FR 22486). The action proposed to continue to require repetitive inspections of the left and right roll spoiler actuators to check for signs of leakage and deformation of the housing, repetitive inspections of the gap between the left roll spoiler actuator housing cap and the actuator housing, repetitive torque checks of the left roll spoiler actuator housing cap attachment screws, and corrective action, if necessary. The action also proposed to add a requirement to replace the double shuttle valves in the roll spoiler actuators with new improved valves, which would constitute terminating action for the requirements of this AD.

Comments

Interested persons have been afforded an opportunity to participate in the making of this amendment. Due consideration has been given to the single comment received.

The commenter, an operator of an airline, indicates that it has already met the proposed requirements.

Conclusion

After careful review of the available data, including the comment noted above, the FAA has determined that air safety and the public interest require the adoption of the rule as proposed.

Cost Impact

There are approximately 50 Dornier Model 328-100 series airplanes of U.S. registry that will be affected by this AD.

The repetitive inspections and checks that are currently required by AD 99-22-15 take approximately 3 work hours per airplane to accomplish, at an average labor rate of $60 per work hour. Based on these figures, the cost impact of these inspections and checks on U.S. operators is estimated to be $9,000, or $180 per airplane.

The replacement that is added by this new AD will take approximately 1 work hour per airplane to accomplish, at an average labor rate of $60 per work hour. Required parts will be provided at no charge to operators. Based on these figures, the cost impact of the replacement added by this AD on U.S. operators is estimated to be $3,000, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11393 (64 FR 59117, November 2, 1999), and by adding a new airworthiness directive (AD), amendment 39-12338, to read as follows:

2001-15-04 Dornier Luftfahrt GMBH: Amendment 39-12338. Docket 2000-NM-366-AD. Supersedes AD 99-22-15, Amendment 39-11393.

Applicability: All Model 328-100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

To prevent oil leakage from the roll spoiler actuators, which could result in incorrect roll spoiler operation and reduced controllability of the airplane, accomplish the following:

Restatement of Requirements of AD 99-22-15

(a) Within 14 days after December 7, 1999 (the effective date of AD 99-22-15, amendment 39-11393), accomplish the requirements of paragraphs (a)(1) and (a)(2) of this AD on the left and right roll spoiler actuators, in accordance with Dornier Alert Service Bulletin ASB-328-27-025, Revision 1, dated September 22, 1999. Thereafter, repeat the inspections required by paragraphs (a)(1) and (a)(2) of this AD at intervals not to exceed 400 flight hours.

(1) Perform a detailed inspection to detect leakage of the area around the actuator cap and housing of the roll spoiler actuators. If leakage is found, prior to further flight, replace the actuator and the double shuttle valve with new or serviceable parts.

(2) Perform a detailed inspection to detect flatness of the surface of the cap of the roll spoiler actuators. If the cap surface is not flat, prior to further flight, replace the actuator and the double shuttle valve with new or serviceable parts.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

(b) Within 14 days after December 7, 1999, accomplish the requirements of paragraphs (b)(1) and (b)(2) of this AD on the left roll spoiler actuator, in accordance with Dornier Alert Service Bulletin ASB-328-27-025, Revision 1, dated September 22, 1999. Thereafter, repeat the inspections required by paragraphs (b)(1) and (b)(2) of this AD at intervals not to exceed 400 flight hours.

(1) Perform a detailed inspection to detect a gap between the cap of the roll spoiler actuator and the actuator housing. If any gap exists, prior to further flight, replace the actuator and the double shuttle valve with new or serviceable parts.

(2) Perform a torque check of the housing cap attachment screws. If the torque is within the limits specified by the alert service bulletin, prior to further flight, torque the screws to 17.7 lb-in, in accordance with the alert service bulletin. If the torque is outside the limits specified by the alert service bulletin, prior to further flight, replace the left roll spoiler actuator and double shuttle valve with new or serviceable parts, in accordance with the alert service bulletin.

(c) If any left roll spoiler actuator is replaced during any inspection required by paragraph (b)(1) or (b)(2) of this AD, prior to further flight, accomplish the requirements of paragraphs (b)(1) and (b)(2) for the right roll spoiler actuator.

Note 3: Accomplishment of the inspections required by paragraphs (a) and (b) of this AD prior to the effective date of this AD, in accordance with Dornier Alert Service Bulletin ASB-328-27-025, dated October 16, 1998, is acceptable for compliance with the initial inspections required by those paragraphs.

New Actions Required by This AD

Replacement

(d) Within 90 days after the effective date of this AD: Replace the double shuttle valves with new improved double shuttle valves, in accordance with Dornier Service Bulletin SB-328-27-310, dated June 10, 2000. Accomplishment of this action constitutes terminating action for the requirements of this AD.

Spares

(e) As of the effective date of this AD, no person shall install a double shuttle valve having any of the following part numbers on any airplane:

ZCV 193

ZCV 193-1 Revision Letter J

ZCV 193 MOD

ZCV 193-1

ZCV 193-I MOD

ZCV 193-2 MOD

ZCV 193-3

ZCV 193-4

ZCV 193-5

Alternative Methods of Compliance

(f)(1) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

(2) Alternative methods of compliance, approved previously in accordance with AD 99-22-15, amendment 39-11393, are approved as alternative methods of compliance with the requirements of paragraphs (a), (b) and (c) of this AD.

Note 4: Information concerning the existence of approved alternative methods of compliance with this AD, if any, may be obtained from the International Branch, ANM-116.

Special Flight Permits

(g) Special flight permits may be issued in accordance with §§ 21.197 and 21.199 of the Federal Aviation Regulations (14 CFR 21.197 and 21.199) to operate the airplane to a location where the requirements of this AD can be accomplished.

Incorporation by Reference

(h) The actions shall be done in accordance with Dornier Alert Service Bulletin ASB-328-27-025, Revision 1, dated September 22, 1999; and Dornier Service Bulletin SB-328-27-310, dated June 10, 2000.

(1) The incorporation by reference of Dornier Service Bulletin SB-328-27-310, dated June 10, 2000 is approved by the Director of the Federal Register as of August 29, 2001.

(2) The incorporation by reference of Dornier Alert Service Bulletin ASB-328-27-025, Revision 1, dated September 22, 1999 was previously approved by the Director of the Federal Register as of December 7, 1999 (64 FR 59117, November 2, 1999).

(3) Copies may be obtained from Fairchild Dornier, Dornier Luftfahrt GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 5: The subject of this AD is addressed in German airworthiness directive 1998-479/3, of which the effective date is October 5, 2000.

Effective Date

(i) This amendment becomes effective on August 29, 2001.

Issued in Renton, Washington, on July 16, 2001.
Vi L. Lipski,
Manager, Transport Airplane Directorate, Aircraft Certification Service.

[FR Doc. 01-18255 Filed 7-24-01; 8:45 am]

BILLING CODE 4910-13-P